DEPARTMENT OF ENERGY

Federal Energy Regulatory Commission

[Project No. 2077-016]

USGen New England, Inc.; Notice Extending Deadline for Filing Comments, Final Terms and Conditions, Recommendations and Prescriptions, and Requesting Reply Comments

May 31, 2000.

On May 30, 2000, the Appalachian Mountain Club, Connecticut River Joint Commission, Connecticut River Watershed Council, Conservation Law Foundation, New Hampshire Rivers Council, Trout Unlimited Vermont Chapter, and Trout Unlimited New Hampshire Chapter (collectively, “NGO's”),¹ and USGen New England requested a second extension to October 1, 2000, for filing comments, final terms and conditions, and recommendations and prescriptions for the Fifteen Mile Falls Project, located on the Connecticut River, in New Hampshire and Vermont. The Vermont Agency of Natural Resources supported the deadline extension in a May 24, 2000 filing.

¹ The NGOs are also signatories to the Settlement Agreement for the project.

Although the Commission is concerned with the progress of proceedings under the Alternative Licensing Process (ALP), a goal of the ALP is to resolve issues in a collaborative manner so that the Commission may accelerate the review of the license application. In this instance, we recognize the close connection between the management plans and other aspects of the license application, and the benefit to the stakeholders of resolving as many issues as possible before they submit their prescriptions, final terms and conditions, recommendations and comments. Additionally, we have received assurances from the stakeholders that they will diligently pursue resolution of the issues, including the issuance of a project water quality certificate. We will therefore, pursuant to Rule 2008 of the Commission's Rules of Practice and Procedure,² extend the deadline to October 1, 2000, for the collaborative team stakeholders to file all prescriptions, final terms and conditions, recommendations and comments.

² 18 CFR 385.2008.

The applicant contact is Mr. Cleve Kapala, USGen New England, Inc., 46 Centerra Parkway, Lebanon, NH 03766. The FERC contact is William Guey-Lee, E-mail address: william.gueylee@ferc.fed.us, or telephone (202) 219-2808.

All documents (original and eight copies) should be filed with: David P. Boergers, Secretary, Federal Energy Regulatory Commission, 888 First St. NE., Washington, DC 20426. The Commission's Rules of Practice and Procedure require all intervenors filing documents with the Commission to serve a copy of that document on each person whose name appears on the official service list for the project. Further, if an intervenor files comments or documents with the Commission relating to the merits of an issue that may affect the responsibilities of a particular resource agency, the intervenor must also serve a copy of the document on that resource agency.

All filings must: (1) Bear in all capital letters the title “COMMENTS,” “RECOMMENDATIONS,” “TERMS AND CONDITIONS,” “PRESCRIPTIONS,” or “REPLY COMMENTS;” (2) set forth in the heading the name of the applicant and the project number of the application and APEA to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Any of these documents must be filed by providing the original and the number of copies required by the Commission's regulations to: Secretary, Federal Energy Regulatory Commission, 888 First Street, NE., Washington, DC 20426. An additional copy must be sent to: Director, Division of Environmental and Engineering Review, Office of Energy Projects, Federal Energy Regulatory Commission, at the above address. Each filing must be accompanied by proof of service on all persons listed on the service list prepared by the Commission in this proceeding, in accordance with 18 CFR 4.34(b) and 385.2010.

David P. Boergers,
Secretary.

[FR Doc. 00-14082 Filed 6-5-00; 8:45 am]

BILLING CODE 6717-01-M